DEPARTMENT OF HEALTH AND HUMAN SERVICES

Office of the Secretary

45 CFR Part 84

[Docket Number OCR-2026-0034]

RIN 0945-AA27

Nondiscrimination on the Basis of Disability in Programs or Activities Receiving Federal Financial Assistance

AGENCY: Office for Civil Rights (OCR), Office of the Secretary, Department of Health and Human Services (HHS).

ACTION: Notice of proposed rulemaking; re-opening of public comment period.

SUMMARY: The Department of Health and Human Services (HHS or Department) published a notice of proposed rulemaking (NPRM) in the Federal Register on December 19, 2025. As a result of administrative technical issues, HHS is re-opening the public comment period for the public to submit comments. The purpose of the NPRM is to limit ambiguity by clarifying that the statutory exclusion of “gender identity disorders not resulting from physical impairments” from the scope of what constitutes discrimination includes “gender dysphoria not resulting from a physical impairment.”

DATES: The comment period for the NPRM published at 90 FR 59478 on December 19, 2025, is re-opened. Comments should be received on or before February 20, 2026.

ADDRESSES: Submit comments, identified by agency name and Docket No. OCR-2026-0034, by any of the following methods:

Electronic Submissions

Submit electronic comments in the following way:

• Federal eRulemaking Portal: https://www.regulations.gov. Follow the instructions for submitting comments. If you are submitting comments electronically, the department strongly encourages you to submit any comments or attachments in Microsoft Word format. If you must submit a comment in Adobe Portable Document Format (PDF), the Department strongly encourages you to convert the PDF to “print-to-PDF” format, or to use some other commonly used searchable text format. Please do not submit the PDF in scanned format. Using a print-to-PDF allows the Department to electronically search and copy certain portions of your submissions to assist in the rulemaking process.

Written Submissions

Submit written submissions in the following ways:

• Mail: U.S. Department of Health and Human Services, Office for Civil Rights, Attention: Disability NPRM, RIN 0945-AA27, Hubert H. Humphrey Building, Room 509F, 200 Independence Avenue SW, Washington, DC 20201.

• Instructions: All comments received by the methods and due date specified above, or officially post marked by the due date above, will be posted without change to content to https://www.regulations.gov, including any personal information provided, and such posting may occur after the closing of the comment period.

However, the Department may redact certain non-substantive content from comments before posting, including threats, hate speech, profanity, graphic images, or individually identifiable information about an individual third-party other than the commenter. In addition, comments or material designated as confidential or not to be disclosed to the public will not be accepted. Comments may be redacted or rejected as described above without notice to the commenter, and the Department will not consider in rulemaking any redacted or rejected content that would not be made available to the public as part of the administrative record. Because of the large number of public comments normally received on Federal Register documents, the Office for Civil Rights is not able to provide individual acknowledgements of receipt.

Please allow sufficient time for mailed comments to be timely received in the event of delivery or security delays.

Please note that comments submitted by fax or email and those submitted or postmarked after the comment period will not be accepted.

Docket: For access to the docket to read background documents or comments received, go to https://www.regulations.gov and follow the instructions provided for conducting a search, using the docket number(s) found in brackets in the heading of this document.

FOR FURTHER INFORMATION CONTACT: John Thompson, Office for Civil Rights, Department of Health and Human Services at (202) 545-4884 or (800) 537-7697 (TDD), or via email at 504@hhs.gov.

SUPPLEMENTARY INFORMATION: Because of administrative technical issues, HHS is re-opening the public comment period for the December 19, 2025 (on 90 FR 59478), NPRM regarding limiting ambiguity by clarifying that the statutory exclusion of “gender identity disorders not resulting from physical impairments” from the scope of what constitutes discrimination includes “gender dysphoria not resulting from a physical impairment.”

Robert F. Kennedy, Jr.,
Secretary, Department of Health and Human Services.

[FR Doc. 2026-02038 Filed 1-30-26; 8:45 am]

BILLING CODE 4153-01-P